DEPARTMENT OF AGRICULTURE

Forest Service

Black Hills National Forest, Custer, SD—Mountain Pine Beetle Response Project

AGENCY: Forest Service, USDA.

ACTION: Notice of intent to prepare an environmental impact statement.

SUMMARY: This project proposes to treat areas newly infested by mountain pine beetles on approximately 325,000 acres of the Black Hills National Forest. Treatments would occur in both South Dakota and Wyoming, and on all four Ranger Districts. Treatments would be carried out within the scope of direction provided in the Revised Land and Resource Management Plan for the Black Hills National Forest, as amended.

DATES: Comments concerning the scope of the analysis must be received by September 7, 2011. The draft environmental impact statement is expected in February 2012, and the final environmental impact statement is expected in August 2012.

ADDRESSES: Send written comments to Craig Bobzien, Forest Supervisor, Black Hills National Forest, 1019 N. 5th Street, Custer, SD 57730. Comments may also be sent via e-mail to comments-rocky-mountain-black-hills@fs.fed.us, with “MPB Response Project” in the subject line. Electronic comments must be submitted in Word (.doc), Rich Text (.rtf), or Adobe Acrobat (.pdf) format.

FOR FURTHER INFORMATION CONTACT: Katie Van-Alstyne, project team leader, Black Hills National Forest, Mystic Ranger District, Rapid City, SD 57701, phone (605) 343-1567. Individuals who use telecommunication devices for the deaf (TDD) may call the Federal Information Relay Service (FIRS) at 1-800-877-8339 between 8 a.m. and 8 p.m., Eastern Time, Monday through Friday.

SUPPLEMENTARY INFORMATION:

Purpose and Need for Action

The purposes of the project are to reduce the threat to ecosystem components including forest resources on National Forest System (NFS) lands from the ongoing mountain pine beetle epidemic, and to help protect local communities and resources on adjacent lands of other ownerships from large-scale wildfire by reducing hazardous fuel levels.

Proposed Action

Background The Black Hills National Forest (the Forest) lies in the Black Hills of western South Dakota and eastern Wyoming. Of the roughly 1.5 million acres in the Black Hills, about 1.2 million acres are National Forest System (NFS) lands, with lands of other ownership comprising another 300,000 acres. The predominant tree species on lands of all ownerships in the Black Hills is ponderosa pine (Pinus ponderosae). Since 1997 the Black Hills area has experienced a significant increase in pine tree mortality from an outbreak of mountain pine beetle (Dendroctonus ponderosae). In many parts of the Forest beetle populations are at or approaching epidemic levels. The outbreak in the Black Hills is part of a larger bark beetle epidemic which has recently affected more than 40 million acres of forest land in the western United States.

In the Black Hills mountain pine beetles (MPB) typically prefer stands of dense, mature pine trees. Tree stands in this condition are frequent and continuous throughout the area. Once attacked by beetles, most trees typically die, and eventually fall to the ground, adding dead and dry fuels within an area already rated as having high wildfire hazard. Since 1980, due to several factors including drought the Forest has seen a dramatic increase in acreage burned by wildfires. In that period over 250,000 acres have burned, consuming forest resources and posing threats to lands of other ownership intermingled with NFS lands.

Proposal The primary management tools for reducing beetle-caused tree mortality are removing infested trees, and reducing the density of remaining trees to lessen the susceptibility to attack. The Forest Service is working to manage persistent and increasing populations of the mountain pine beetle across the Forest. As part of that larger effort the Forest is proposing the Mountain Pine Beetle Response Project (MPBRP—the project). The project would be conducted as an authorized hazardous fuels reduction project under the authority of the Healthy Forests Restoration Act of 2003 (HFRA). The proposed action would treat newly detected infestations that may occur on about 325,000 acres of NFS lands to reduce and slow the spread of MPB. Specifically, newly infested trees would be removed, or made unsuitable for occupancy by beetles, before beetles can mature and further disperse to other trees. Some surrounding mature trees at risk of infestation may also be removed. A variety of treatment options would be available for use depending on conditions encountered on infested sites. Actual treatments used at any specific location would be determined at the time of implementation. Treatment options would include commercial tree removal using ground-based or cable logging equipment, or helicopter; non-commercial methods such as chipping trees or cutting them into short sections; and spraying small areas of trees to prevent infestation. Some temporary road construction is proposed, although generally road access would use existing road templates where available. Roads would be closed after use.

Possible Alternatives

The No Action alternative would not authorize any actions on the project area at this time. Other alternatives may be developed in response to public comments.

Lead and Cooperating Agencies

No cooperating agencies have been identified.

Responsible Official

The Responsible Official for this project is the Forest Supervisor, Black Hills National Forest, 1019 North 5th Avenue, Custer, South Dakota, 57730.

Nature of Decision To Be Made

After considering the proposed action and any alternatives, the environmental analysis, and public comment, the Forest Supervisor will decide whether to conduct treatments to reduce and slow the progress of the beetle epidemic. If an action alternative is selected, the Supervisor will decide where treatments may occur, and what actions are appropriate and may be taken. Finally, the decision will include the scope of monitoring that should occur. No Forest Plan amendment is proposed.

Scoping Process

This notice of intent initiates the scoping process, which guides the development of the environmental impact statement. The Forest Service seeks to involve interested parties in identifying issues related to responding to and managing the ongoing insect outbreak. Public comment will help the planning team identify key issues and opportunities to develop appropriate responses and alternatives, and monitoring strategies, and to evaluate the effects of the proposal.

Three public meetings are planned at this stage of project analysis. Those will be held August 23, 2011, in Sundance, Wyoming, at the Crook County Courthouse; August 25 in Hill City, South Dakota, at the high school; and August 30 in Spearfish, SD, at the Holiday Inn. All meetings will begin at 6 p.m. Mountain Time (MT), and end at 8 p.m. M.T. In addition, three public meetings will be held during the comment period on the Draft Environmental Impact Statement.

The Forest Service recognizes the broad public interest in the communities and counties lying in or adjacent to the Black Hills, as well as the States of South Dakota and Wyoming. The initial mailing list for this project includes counties and municipalities lying wholly or partially within the Forest boundary.

It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action. Comments submitted anonymously will be accepted and considered, however.

August 2, 2011.
Dennis Jaeger,
Deputy Forest Supervisor.

[FR Doc. 2011-20036 Filed 8-5-11; 8:45 am]

BILLING CODE 3410-11-P